DEPARTMENT OF HOMELAND SECURITY

Federal Emergency Management Agency

[Docket ID FEMA-2016-0002; Internal Agency Docket No. FEMA-B-1611]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: March 20, 2016.
Roy E. Wright,
Deputy Associate Administrator for Insurance and Mitigation, Department of Homeland Security, Federal Emergency Management Agency.

State and county | Location and case No. | Chief executive officer of community | Community map repository | Online location of letter of map revision | Effective date of modification | Community No.
Alabama:
Shelby | City of Hoover (15-04-7711P) | The Honorable Gary Ivey, Mayor, City of Hoover, 100 Municipal Lane, Hoover, AL 35216 | Building Inspections Department, 2020 Valleydale Road, Hoover, AL 35244 | http://www.msc.fema.gov/lomc | Jun. 13, 2016 | 010123
Shelby | Unincorporated areas of Shelby County (15-04-7711P) | The Honorable Rick Shepherd, Chairman, Shelby County Commission, 200 West College Street, Columbiana, AL 35051 | Shelby County Engineer's Office, 506 Highway 70, Columbiana, AL 35051 | http://www.msc.fema.gov/lomc | Jun. 13, 2016 | 010191
Arizona: Maricopa | City of Scottsdale (15-09-1857P) | The Honorable W.J. “Jim” Lane, Mayor, City of Scottsdale, 3939 North Drinkwater Boulevard, Scottsdale, AZ 85251 | Stormwater and Floodplain Management Department, 7447 East Indian School Road, Suite 125, Scottsdale, AZ 85251 | http://www.msc.fema.gov/lomc | Jun. 10, 2016 | 045012
California: Santa Barbara | City of Santa Barbara (15-09-1420P) | The Honorable Helene Schneider, Mayor, City of Santa Barbara, P.O. Box 1990, Santa Barbara, CA 93102 | Public Works Department, 630 Garden Street, Santa Barbara, CA 93101 | http://www.msc.fema.gov/lomc | Jun. 13, 2016 | 060335
Colorado: Arapahoe | City of Aurora (15-08-1386P) | The Honorable Steve Hogan, Mayor, City of Aurora, 15151 East Alameda Parkway, Aurora, CO 80012 | City Hall, 15151 East Alameda Parkway, Aurora, CO 80012 | http://www.msc.fema.gov/lomc | Jun. 10, 2016 | 080002
Connecticut: Hartford | Town of Simsbury (15-01-2526P) | The Honorable Lisa L. Heavner, First Selectman, Town of Simsbury, 933 Hopmeadow Street, Simsbury, CT 06070 | Town Hall, 933 Hopmeadow Street, Simsbury, CT 06070 | http://www.msc.fema.gov/lomc | Jun. 3, 2016 | 090035
Florida:
Alachua | City of Hawthorne (15-04-8602P) | The Honorable Matthew Surrency, Mayor, City of Hawthorne, P.O. Box 2413, Hawthorne, FL 32640 | Building Department, 6700 Southeast 221st Street, Hawthorne, FL 32640 | http://www.msc.fema.gov/lomc | Jun. 16, 2016 | 120682
Alachua | Unincorporated areas of Alachua County (15-04-A130P) | The Honorable Robert “Hutch” Hutchinson, Chairman, Alachua County Board of Commissioners, 12 Southeast 1st Street, Gainesville, FL 32601 | Alachua County Public Works Department, 5620 Northwest 120th Lane, Gainesville, FL 32601 | http://www.msc.fema.gov/lomc | Jun. 21, 2016 | 120001
Bay | City of Panama City Beach (15-04-9706P) | The Honorable Gayle Oberst, Mayor, City of Panama City Beach, 110 South Arnold Road, Panama City Beach, FL 32413 | Engineering Department, 110 South Arnold Road, Panama City Beach, FL 32413 | http://www.msc.fema.gov/lomc | Jun. 21, 2016 | 120013
Bay | Unincorporated areas of Bay County (15-04-9706P) | The Honorable Mike Nelson, Chairman, Bay County Board of Commissioners, 840 West 11th Street, Panama City, FL 32401 | Bay County Planning and Zoning Division, 840 West 11th Street, Panama City, FL 32401 | http://www.msc.fema.gov/lomc | Jun. 21, 2016 | 120004
Collier | City of Marco Island (15-04-5962P) | The Honorable Bob Brown Chairman, City of Marco Island Council, 50 Bald Eagle Drive, Marco Island, FL 34145 | Growth Management Department, 50 Bald Eagle Drive, Marco Island, FL 34145 | http://www.msc.fema.gov/lomc | May 31, 2016 | 120426
Collier | City of Naples (16-04-1431P) | The Honorable John Sorey III, Mayor, City of Naples, 735 8th Street South, Naples, FL 34102 | Building Department, 295 Riverside Circle, Naples, FL 34102 | http://www.msc.fema.gov/lomc | Jun. 9, 2016 | 125130
Collier | Unincorporated areas of Collier County (16-04-1863P) | The Honorable Donna Fiala, Chair, Collier County Board of Commissioners, 3299 Tamiami Trail East, Suite 303, Naples, FL 34112 | Collier County Floodplain Management Section, 2800 North Horseshoe Drive, Naples, FL 34104 | http://www.msc.fema.gov/lomc | Jun. 15, 2016 | 120067
Miami-Dade | City of Sunny Isles Beach (15-04-7678P) | The Honorable George “Bud” Scholl, Mayor, City of Sunny Isles Beach, 18070 Collins Avenue, Sunny Isles Beach, FL 33160 | Building Department, 18070 Collins Avenue, 3rd Floor, Sunny Isles Beach, FL 33160 | http://www.msc.fema.gov/lomc | Jun. 10, 2016 | 120688
Monroe | Village of Islamorada (16-04-1346P) | The Honorable Deb Gillis, Mayor, Village of Islamorada, 86800 Overseas Highway, Islamorada, FL 33036 | Planning and Development Department, 86800 Overseas Highway, Islamorada, FL 33036 | http://www.msc.fema.gov/lomc | Jun. 1, 2016 | 120424
Monroe | City of Marathon (16-04-1559P) | The Honorable Mark Senmartin, Mayor, City of Marathon, 9805 Overseas Highway, Marathon, FL 33050 | Planning Department, 9805 Overseas Highway, Marathon, FL 33050 | http://www.msc.fema.gov/lomc | Jun. 16, 2016 | 120681
Monroe | Unincorporated areas of Monroe County (16-04-0087P) | The Honorable Heather Carruthers, Mayor, Monroe County Board of Commissioners, 500 Whitehead Street, Suite 102, Key West, FL 33040 | Monroe County Department of Planning and Environmental Resources, 2798 Overseas Highway, Marathon, FL 33050 | http://www.msc.fema.gov/lomc | Jun. 2, 2016 | 125129
Monroe | Unincorporated areas of Monroe County (16-04-1380P) | The Honorable Heather Carruthers, Mayor, Monroe County Board of Commissioners, 500 Whitehead Street, Suite 102, Key West, FL 33040 | Monroe County Building Department, 2798 Overseas Highway, Suite 300, Marathon, FL 33050 | http://www.msc.fema.gov/lomc | Jun. 17, 2016 | 125129
Monroe | Unincorporated areas of Monroe County (16-04-1801P) | The Honorable Heather Carruthers, Mayor, Monroe County Board of Commissioners, 500 Whitehead Street, Suite 102, Key West, FL 33040 | Monroe County Building Department, 2798 Overseas Highway, Suite 300, Marathon, FL 33050 | http://www.msc.fema.gov/lomc | Jun. 17, 2016 | 125129
St. Johns | Unincorporated areas of St. Johns County (15-04-9500P) | The Honorable Jeb Smith, Chairman, St. Johns County Board of Commissioners, 500 San Sebastian View, St. Augustine, FL 32084 | St. Johns County, Building Services Division, 4040 Lewis Speedway, St. Augustine, FL 32084 | http://www.msc.fema.gov/lomc | Jun. 13, 2016 | 125147
St. Johns | Unincorporated areas of St. Johns County (16-04-0826P) | The Honorable Jeb Smith, Chairman, St. Johns County Board of Commissioners, 500 San Sebastian View, St. Augustine, FL 32084 | St. Johns County, Building Services Division, 4040 Lewis Speedway, St. Augustine, FL 32084 | http://www.msc.fema.gov/lomc | May 31, 2016 | 125147
New Mexico: Bernalillo | Unincorporated areas of Bernalillo County (15-06-1772P) | The Honorable Maggie Hart Stebbins, Chair, Bernalillo County Board of Commissioners, 1 Civic Plaza Northwest, Albuquerque, NM 87102 | Bernalillo County Public Works Division, 2400 Broadway Boulevard Southeast, Albuquerque, NM 87102 | http://www.msc.fema.gov/lomc | Jun. 10, 2016 | 350001
North Carolina: Forsyth | City of Winston-Salem (15-04-9863P) | The Honorable Allen Joines, Mayor, City of Winston-Salem, 101 North Main Street, Suite 150, Winston-Salem, NC 27101 | City Hall, 101 North Main Street, Winston-Salem, NC 27101 | http://www.msc.fema.gov/lomc | Jun. 16, 2016 | 375360
Ohio: Montgomery | City of Centerville (15-05-1744P) | The Honorable Brooks Compton, Mayor, City of Centerville, 350 Roselake Drive, Centerville, OH 45458 | Public Works Department, 7970 South Suburban Road, Centerville, OH 45458 | http://www.msc.fema.gov/lomc | Jun. 15, 2016 | 390408
Texas:
Bexar | City of San Antonio (15-06-0951P) | The Honorable Ivy R. Taylor, Mayor, City of San Antonio, P.O. Box 839966, San Antonio, TX 78283 | Transportation and Capital Improvements Department, Storm Water Division, 1901 South Alamo Street, 2nd Floor, San Antonio, TX 78204 | http://www.msc.fema.gov/lomc | Jun. 16, 2016 | 480045
Collin | City of Allen (15-06-3685P) | The Honorable Stephen Terrell, Mayor, City of Allen, 305 Century Parkway, 1st Floor, Allen, TX 75013 | Engineering Department, 305 Century Parkway, Allen, TX 75013 | http://www.msc.fema.gov/lomc | Jun. 10, 2016 | 480259
Denton | City of Carrollton (15-06-3828P) | The Honorable Matthew Marchant, Mayor, City of Carrollton, P.O. Box 110535, Carrollton, TX 75011 | Building Inspections Department, 1945 East Jackson Road, Carrollton, TX 75006 | http://www.msc.fema.gov/lomc | Jun. 13, 2016 | 480167
Denton | City of The Colony (15-06-3828P) | The Honorable Joe McCourry, Mayor, City of The Colony, 6800 Main Street, The Colony, TX 75056 | Engineering Department, 6800 Main Street, The Colony, TX 75056 | http://www.msc.fema.gov/lomc | Jun. 13, 2016 | 481581
Denton | City of Plano (15-06-3828P) | The Honorable Harry LaRosiliere, Mayor, City of Plano, P.O. Box 860358, Plano, TX 75086 | City Hall, 1520 K Avenue, Plano, TX 75074 | http://www.msc.fema.gov/lomc | Jun. 13, 2016 | 480140
El Paso | City of El Paso (15-06-0864P) | The Honorable Oscar Leeser, Mayor, City of El Paso, 300 North Campbell Street, El Paso, TX 79901 | Land Development Department, 801 Texas Avenue, El Paso, TX 79901 | http://www.msc.fema.gov/lomc | Jun. 9, 2016 | 480214
Grayson | City of Denison (15-06-2276P) | The Honorable Jared Johnson, Mayor, City of Denison, P.O. Box 347, Denison, TX 75021 | City Hall, 500 West Chestnut Street, Denison, TX 75020 | http://www.msc.fema.gov/lomc | Jun. 8, 2016 | 480259
Grayson | Unincorporated areas of Grayson County (15-06-2276P) | The Honorable Bill Magers, Grayson County Judge, 100 West Houston Street, Sherman, TX 75090 | Grayson County Development Services Department, 100 West Houston Street, Sherman, TX 75090 | http://www.msc.fema.gov/lomc | Jun. 8, 2016 | 480829
Montgomery | City of Conroe (15-06-1222P) | The Honorable Webb K. Melder, Mayor, City of Conroe, P.O. Box 3066, Conroe, TX 77305 | Department of Public Works, Engineering Division, 300 West Davis Street, Conroe, TX 77301 | http://www.msc.fema.gov/lomc | Jun. 13, 2016 | 480484
Travis | City of Pflugerville (15-06-3658P) | The Honorable Jeff Coleman, Mayor, City of Pflugerville, P.O. Box 589, Pflugerville, TX 78660 | Development Services Department, 201-B East Pecan Street, Pflugerville, TX 78691 | http://www.msc.fema.gov/lomc | Jun. 3, 2016 | 481028
Travis | Unincorporated areas of Travis County (15-06-3658P) | The Honorable Sarah Eckhardt, Travis County Judge, P.O. Box 1748, Austin, TX 78767 | Travis County Engineering Department, 700 Lavaca Street, Austin, TX 78767 | http://www.msc.fema.gov/lomc | Jun. 3, 2016 | 481026
Travis | Unincorporated areas of Travis County (15-06-4029P) | The Honorable Sarah Eckhardt, Travis County Judge, P.O. Box 1748, Austin, TX 78767 | Travis County Administration Building, 700 Lavaca Street, 5th Floor, Austin, TX 78767 | http://www.msc.fema.gov/lomc | May 26, 2016 | 481026
Wichita | City of Wichita Falls (15-06-2136P) | The Honorable Glenn Barham, Mayor, City of Wichita Falls, P.O. Box 1431, Wichita Falls, TX 76307 | City Hall, 1300 7th Street, Room 105, Wichita Falls, TX 76301 | http://www.msc.fema.gov/lomc | Jun. 14, 2016 | 480662
Utah: Washington | Unincorporated areas of Washington County (15-08-1225P) | The Honorable Alan D. Gardner, Chairman, Washington County Board of Commissioners, 197 East Tabernacle Street, St. George, UT 84770 | Washington County Planning and Zoning Department, 197 East Tabernacle Street, St. George, UT 84770 | http://www.msc.fema.gov/lomc | Jun. 15, 2016 | 490224
Virginia:
Albemarle | Unincorporated areas of Albemarle County (15-03-2153P) | The Honorable Thomas Foley, Albemarle County Executive, 401 McIntire Road, Charlottesville, VA 22902 | Albemarle County Department of Community Development, 401 McIntire Road, Charlottesville, VA 22902 | http://www.msc.fema.gov/lomc | May 23, 2016 | 510006
Chesterfield | Unincorporated areas of Chesterfield County (15-03-2769P) | The Honorable Steve A. Elswick, Chairman, Chesterfield County Board of Supervisors, P.O. Box 40, Chesterfield, VA 23832 | Chesterfield County Department of Environmental Engineering, 9800 Government Center Parkway, Chesterfield, VA 23832 | http://www.msc.fema.gov/lomc | Jun. 10, 2016 | 510035
Fauquier | Unincorporated areas of Fauquier County (15-03-0741P) | The Honorable Chester W. Stribling, Chairman, Fauquier County Board of Supervisors, 10 Hotel Street, Suite 208, Warrenton, VA 20186 | Fauquier County Department of Community Development, Zoning and Development Services, 29 Ashby Street, Suite 310, Warrenton, VA 20186 | http://www.msc.fema.gov/lomc | Jun. 9, 2016 | 510055
Shenandoah | Unincorporated areas of Shenandoah County (15-03-2087P) | The Honorable Conrad A. Helsley, Chairman, Shenandoah County Board of Supervisors, 600 North Main Street, Suite 102, Woodstock, VA 22664 | Shenandoah County GIS Department, 600 North Main Street, Suite 102, Woodstock, VA 22664 | http://www.msc.fema.gov/lomc | May 23, 2016 | 510147

[FR Doc. 2016-07594 Filed 4-1-16; 8:45 am]

BILLING CODE 9110-12-P